NATIONAL CAPITAL PLANNING COMMISSION

Notice of Final Adoption of and Effective Date; Federal Environment Element, Section G of the Comprehensive Plan for the National Capital

AGENCY: National Capital Planning Commission.

ACTION: Notice of final adoption of and effective date.

SUMMARY: The National Capital Planning Commission (NCPC) adopted the Federal Environment Element, Section G of the Comprehensive Plan for the National Capital: Federal Elements on November 5, 2020. The Element establishes policies in Section G to preserve and replace trees that are impacted by development on federal land so they contribute to the sustainability of the National Capital Region's environment. The National Capital Region includes the District of Columbia; Montgomery and Prince George's Counties in Maryland; Arlington, Fairfax, Loudoun, and Prince William Counties in Virginia; and all cities within the boundaries of these counties. Section G of the Element provides the policy framework for Commission actions on plans and projects subject to Commission review.

DATES: The revised Element will become effective February 1, 2021.

ADDRESSES: The revised Element is available online for review at: https://www.ncpc.gov/initiatives/treereplacement/.

FOR FURTHER INFORMATION CONTACT: Stephanie Free at (202) 482-7209 or info@ncpc.gov.

(Authority: 40 U.S.C. 8721(e)(2))

Dated: November 25, 2020.
Anne R. Schuyler,
General Counsel.

[FR Doc. 2020-26466 Filed 11-30-20; 8:45 am]

BILLING CODE P